INTERNATIONAL TRADE COMMISSION

[USITC SE-13-031]

Government in the Sunshine Act Meeting Notice

AGENCY HOLDING THE MEETING: United States International Trade Commission.

TIME AND DATE: November 19, 2013 at 12:00 p.m.

PLACE: Room 101, 500 E Street SW., Washington, DC 20436, Telephone: (202) 205-2000.

STATUS: Open to the public

MATTERS TO BE CONSIDERED:

1. Agendas for future meetings: None.

2. Minutes.

3. Ratification List.

4. Vote in Inv. Nos. 701-TA-505 and 731-TA-1231-1237 (Preliminary) (Grain-Oriented Electrical Steel from China, Czech Republic, Germany, Japan, Korea, Poland, and Russia). The Commission is currently scheduled to complete and file its determinations on or before November 20, 2013; Commissioners' opinions will be issued on November 27, 2013.

5. Outstanding action jackets: None.

In accordance with Commission policy, subject matter listed above, not disposed of at the scheduled meeting, may be carried over to the agenda of the following meeting.

By order of the Commission.
Issued: November 6, 2013.
William R. Bishop,
Supervisory Hearings and Information Officer.

[FR Doc. 2013-27098 Filed 11-7-13; 11:15 am]

BILLING CODE 7020-02-P